UNITED STATES ARCTIC RESEARCH COMMISSION

Reports and Updates on Arctic Research Programs and Projects; Meetings

Notice is hereby given that the US Arctic Research Commission will hold its 96th meeting in Durham and Hanover, NH, on October 5-7, 2011. The business sessions on October 5 and 7 are open to the public and will convene at 8:00 a.m. each day. On October 6, the Commission will hold a meeting at the US Army Cold Regions Research and Engineering Lab (CRREL), a secure US Army facility with limited and pre-screened access for visitors. The Commission will hold public question and comment sessions on both October 5 and 7 between 5 and 5:30 p.m. where the public is invited to address the Commissioners about topics of interest related to research activities in the Arctic.

96th Meeting Schedule:

Wed., Oct. 5, 2011, University of New Hampshire, Durham, NH, Center for Coastal & Ocean Mapping, Joint Hydrographic Center, 24 Colovos Rd., Admiral's Conference Room, 2nd Floor, Room 240, Public comment and question period: Captain's Library, 1st Floor, Room 166.

Thurs., Oct. 6, 2011, CRREL, Hanover, NH.

Fri., Oct. 7, 2011 Dartmouth College, Rockefeller Center, 2 Webster Street, 1930s Room, 1st Flr., Public Comment and Question Period: Rockefeller Center, 2 Webster Street, 1930s Room, 1st Floor.

The Agenda items include:

(1) Call to order and approval of the agenda.

(2) Approval of the minutes from the 95th meeting.

(3) Commissioner and staff reports.

(4) Discussion and presentations concerning Arctic research activities.

The focus of the meeting will be reports and updates on Arctic research programs and projects.

If you plan to attend this meeting, please notify us via the contact information below. Any person planning to attend who requires special accessibility features and/or auxiliary aids, such as sign language interpreters, must inform the Commission of those needs in advance of the meeting.

Contact person for further information: John Farrell, Executive Director, US Arctic Research Commission, 703-525-0111 or TDD 703-306-0090.

Yours truly,
John Farrell,
Executive Director.

[FR Doc. 2011-25176 Filed 9-29-11; 8:45 am]

BILLING CODE 7555-01-P